DEPARTMENT OF COMMERCE

National Oceanic and Atmospheric Administration

RIN 0648-XV096

South Atlantic Fishery Management Council; Public Meetings

AGENCY: National Marine Fisheries Service (NMFS), National Oceanic and Atmospheric Administration (NOAA), Commerce.

ACTION: Notice of public meetings of the South Atlantic Fishery Management Council's (Council) Advisory Panels (AP) via webinar.

SUMMARY: The Council will hold a joint meeting of the following Advisory panels: Coral, Dolphin Wahoo, Mackerel Cobia, Shrimp, and Spiny Lobster via webinar followed by an independent meeting of the advisory panels via webinar.

DATES: The meetings will take place October 29, 2019, from 1 p.m. to 4 p.m. The established times may be adjusted as necessary to accommodate the timely completion of discussion. Such adjustments may result in the meeting being extended from, or completed prior to the time established by this notice.

ADDRESSES:

Meeting address: The meetings will be held via webinar. The meetings are open to the public. Registration for the webinars is required. See SUPLEMENTARY INFORMATION.

Council address: South Atlantic Fishery Management Council, 4055 Faber Place Drive, Suite 201, N. Charleston, SC 29406.

FOR FURTHER INFORMATION CONTACT: Kim Iverson, Public Information Officer, SAFMC; phone: (843) 571-4366 or toll free (866) SAFMC-10; fax: (843) 769-4520; email: kim.iverson@safmc.net.

SUPPLEMENTARY INFORMATION: The advisory panels will meet jointly via webinar to receive a presentation by the Florida Keys National Marine Sanctuary (FKNMS) on its current Marine Zoning and Regulatory Review https://floridakeys.noaa.gov/review/welcome.html with a focus on possible implications to federally-managed fisheries. The AP members will have the opportunity for questions with FKNMS staff.

Following the presentation and questions, the advisory panels will meet independently via webinar to discuss the information received during the presentation and provide recommendations for Council consideration as appropriate.

The meetings are open to the public and will be available via webinar as they occur. Registration is required. Webinar registration information, a public comment form, and other meeting materials will be posted to the Council's website at: http://safmc.net/safmc-meetings/current-advisory-panel-meetings/ as it becomes available.

Special Accommodations

The meetings are physically accessible to people with disabilities. Requests for auxiliary aids should be directed to the Council office (see ADDRESSES) 5 days prior to the meeting.

Note: The times and sequence specified in this agenda are subject to change.

Authority: 16 U.S.C. 1801 et seq.

Dated: October 3, 2019.
Tracey L. Thompson,
Acting Deputy Director, Office of Sustainable Fisheries, National Marine Fisheries Service.

[FR Doc. 2019-21898 Filed 10-7-19; 8:45 am]

BILLING CODE 3510-22-P